ENVIRONMENTAL PROTECTION AGENCY

40 CFR Part 161

[EPA-HQ-OPP-2004-0387; FRL-8418-5]

Data Requirements for Antimicrobial Pesticides; Technical Amendment

AGENCY: Environmental Protection Agency (EPA).

ACTION: Final rule; technical amendment.

SUMMARY: EPA is issuing this technical amendment to clarify that the data requirements for pesticide registration in 40 CFR part 161 are applicable only to antimicrobial pesticides.

DATES: This technical amendment is effective June 24, 2009.

ADDRESSES: EPA has established a docket for this action under docket identification (ID) number EPA-HQ-OPP-2004-0387. All documents in the docket are listed in the docket index available in http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Kathryn Boyle, Field and External Affairs Division, (7506P), Office of Pesticide Programs, Environmental Protection Agency, 1200 Pennsylvania Ave., NW., Washington DC 20460-0001; telephone number: (703) 305-6304; e-mail address: boyle.kathryn @epa.gov.

SUPPLEMENTARY INFORMATION:

I. General Information

A. Does this Action Apply to Me?

The Agency included in the final rule a list of those who may be potentially affected by this action. If you have questions regarding the applicability of this action to a particular entity, consult the person listed under the FOR FURTHER INFORMATION CONTACT.

B. How Can I Access Electronic Copies of this Document and Other Related Information?

In addition to accessing electronically available documents at http://www.regulations.gov, you may access this Federal Register document electronically through the EPA Internet under the “Federal Register” listings at http://www.epa.gov/fedrgstr.

II. What Does this Technical Amendment Do?

In the Federal Register of October 24, 2007 (72 FR 60251) (FRL-8116-2), EPA issued a Final Rule which, among other things, redesignated 40 CFR part 158 as 40 CFR part 161. The regulations in redesignated part 161 were intended to apply to, and are applicable only to antimicrobial pesticides as was shown in the redesignation table. This technical amendment is issued to clarify the applicability of part 161, clear up any confusion among the users of the regulations in 40 CFR parts 158 and 161, and to correct the part heading for part 161 to show applicability to antimicrobial pesticides. The data requirements for conventional, biochemical, and microbial pesticides are set forth in 40 CFR part 158.

III. Why is this Tehnical Amendment Issued as a Final Rule?

Section 553 of the Administrative Procedure Act (APA), 5 U.S.C. 553(b)(B), provides that, when an Agency for good cause finds that notice and public procedure are impracticable, unnecessary or contrary to the public interest, the Agency may issue a final rule without providing notice and an opportunity for public comment. EPA has determined that there is good cause for making today's technical amendment final without prior proposal and opportunity for comment, because EPA is not making any substantive changes to the regulations and is merely clarifying the applicability of existing regulations to avoid confusion. EPA finds that this constitutes good cause under 5 U.S.C. 553(b)(B).

IV. Do Any of the Statutory and Executive Order Reviews Apply to this Action?

The appropriate statutory and Executive Order reviews were included in the October 24, 2007 Final Rule.

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 161

Environmental protection, Pesticides and pests, Reporting and recordkeeping requirements.

Dated: June 12, 2009.
Debra Edwards,
Director, Office of Pesticide Programs.

Therefore, 40 CFR part 161 is amended as follows:

PART 161—[AMENDED]

1. The authority citation for part 161 continues to read as follows:

Authority: 7 U.S.C. 136—136y.

2. Revise the heading for part 161 to read as follows:

PART 161—DATA REQUIREMENTS FOR REGISTRATION OF ANTIMICROBIAL PESTICIDES

[FR Doc. E9-14620 Filed 6-23-09; 8:45 am]

BILLING CODE 6560-50-S